Memorandum of January 20, 2021

Preserving and Fortifying Deferred Action for Childhood Arrivals (DACA)

Memorandum for the Attorney General [and] the Secretary of Homeland Security

By the authority vested in me as President by the Constitution and the laws of the United States, it is hereby ordered as follows:

Section 1. Policy. In 2012, during the Obama-Biden Administration, the Secretary of Homeland Security issued a memorandum outlining how, in the exercise of prosecutorial discretion, the Department of Homeland Security should enforce the Nation's immigration laws against certain young people. This memorandum, known as the Deferred Action for Childhood Arrivals (DACA) guidance, deferred the removal of certain undocumented immigrants who were brought to the United States as children, have obeyed the law, and stayed in school or enlisted in the military. DACA and associated regulations permit eligible individuals who pass a background check to request temporary relief from removal and to apply for temporary work permits. DACA reflects a judgment that these immigrants should not be a priority for removal based on humanitarian concerns and other considerations, and that work authorization will enable them to support themselves and their families, and to contribute to our economy, while they remain.

Sec. 2. Preserving and Fortifying DACA. The Secretary of Homeland Security, in consultation with the Attorney General, shall take all actions he deems appropriate, consistent with applicable law, to preserve and fortify DACA.

Sec. 3. General Provisions. (a) Nothing in this memorandum shall be construed to impair or otherwise affect:

(i) the authority granted by law to an executive department, agency, or the head thereof; or

(ii) the functions of the Director of the Office of Management and Budget relating to budgetary, administrative, or legislative proposals.

(b) This memorandum shall be implemented consistent with applicable law.

(c) This memorandum is not intended to, and does not, create any right or benefit, substantive or procedural, enforceable at law or in equity by any party against the United States, its departments, agencies, or entities, its officers, employees, or agents, or any other person.

(d) The Secretary of Homeland Security is authorized and directed to publish this memorandum in the Federal Register.

THE WHITE HOUSE,

Washington, January 20, 2021

[FR Doc. 2021-01769

Filed 1-22-21; 11:15 am]

Billing code 4410-10-P